DEPARTMENT OF HOMELAND SECURITY

Federal Emergency Management Agency

44 CFR Part 67

[Docket No. FEMA-D-7688]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) +Elevation in feet (NAVD) # Depth in feet above ground: Effective | * Elevation in feet (NGVD) +Elevation in feet (NAVD) # Depth in feet above ground: Modified | Communities affected
Camden County, New Jersey (All Jurisdictions)
Barton Run Tributary 3 | At State Route 73 | +85 | +84 | Township of Voorhees.
| Approximately 1,040 feet above Sunset Avenue | None | +134
Cooper River | Approximately 180 feet upstream of Kaighns Avenue (County Route 607) | +9 | +10 | City of Camden, Borough of Collingswood, Township of Cherry Hill, Borough of Gibbsboro, Township of Haddon, Borough of Haddonfield, Borough of Lawnside, Borough of Lindenwold, Township of Pennsauken, Borough of Somerdale, Borough of Tavistock, Township of Voorhees.
| Approximately 155 feet upstream of Gibbsboro Road | None | +73
Mason Run | Approximately 50 feet downstream of Clementon Road County Route 683 | +23 | +25 | Borough of Lindenwold.
| Approximately 125 feet upstream of County Route 534 | None | +35
Millard Creek | At the confluence with Cooper River | +65 | +64 | Borough of Gibbsboro.
| Approximately 500 feet upstream of Gibbsboro Road (County Route 686) | None | +76
Newton Creek | Approximately 10 feet downstream of White Horse Pike | +9 | +10 | Borough of Audubon, Borough of Collingswood, Township of Haddon, Borough of Haddonfield, Borough of Oaklyn.
| Approximately 140 feet upstream of West End Avenue | None | +47
Nicholson Branch | At confluence with Millard Creek | +65 | +67 | Borough of Gibbsboro, Township of Voorhees.
| Approximately 590 feet upstream of North Lake Drive | None | +100
North Branch | At confluence with Cooper River | +16 | +14 | Township of Cherry Hill, Township of Voorhees.
Cooper River | Approximately 0.48 mile upstream of Kresson Road (County Route 671) | None | +86
South Branch Newton Creek | Approximately 60 feet upstream of abandoned railroad | +9 | +10 | Borough of Audubon, Township of Haddon, City of Gloucester, Township of Mount Ephraim.
| Approximately 500 feet upstream of State Route 168 | None | +11
Tributary No. 1 to Cooper River | At confluence with Cooper River | +39 | +38 | Township of Cherry Hill.
| At downstream side of Burnt Mill Road | +41 | +40
Tributary No. 2 | At confluence with Cooper River | +40 | +38 | Township of Cherry Hill.
| At downstream side of Evesham Road | +59 | +60
Tributary No. 3 | At confluence with Cooper River | +43 | +42 | Borough of Lawnside, Borough of Somerdale, Township of Voorhees.
| Approximately 500 feet upstream of Evesham Road | +54 | +55
Tributary No. 4 | At confluence with Cooper River | +53 | +52
| At downstream side of Rural Avenue | +53 | +52
Signey Run | Approximately 1,100 feet upstream confluence with North Branch Big Timber Creek | +15 | +16 | Township of Gloucester, Borough of Hi-Nella, Borough of Stratford.
| At downstream side of Warwick Road | +43 | +42
Tributary No. 1 to North Branch Cooper River | At confluence with North Branch Cooper River | +71 | +76 | Township of Voorhees.
| At downstream side of Kresson Road | +101 | +100
Tributary No. 2 | At confluence with North Branch Cooper River | +77 | +82 | Township of Voorhees.
| Approximately 900 feet upstream of confluence with North Branch Cooper River | +81 | +82
Peter Brook | At confluence with Newton Creek | None | +9 | Borough of Audubon Park, Borough of Oaklyn.
| At approximately 0.92 mile upstream Newton Creek | None | +9
North Branch Big Timber | At downstream side of East Atlantic Avenue (County Route 727) | None | +41 | Borough of Clementon.
| At approximately 1,950 feet upstream of East Atlantic Avenue (County Route 727) | None | +41
* National Geodetic Vertical Datum.
# Depth in feet above ground.
+ North American Vertical Datum.
ADDRESSES
Borough of Audubon
Maps are available for inspection at the Borough of Audubon, 606 West Nicholson Road, Audubon, New Jersey.
Send comments to The Honorable Anthony M. Pugliese, Mayor of the Borough of Audubon, 606 West Nicholson Road, Audubon, New Jersey 08106.
Borough of Audubon Park
Maps are available for inspection at the Borough of Audubon Park, 20 Road C, Audubon Park, New Jersey.
Send comments to The Honorable Donald M. Pennock, Mayor of the Borough of Audubon Park, 20 Road C, Audubon Park, New Jersey 08106.
City of Camden
Maps are available for inspection at the City of Camden Planning Department, 520 Market Street, Room 422, Camden, New Jersey.
Send comments to The Honorable Gwendolyn A. Faison, Mayor of the City of Camden, P.O. Box 95120, Camden, New Jersey 08101.
Township of Cherry Hill
Maps are available for inspection at the Cherry Hill Township Building, 820 Mercer Street, Cherry Hill, New Jersey.
Send comments to The Honorable Bernie Platt, Mayor of the Township of Cherry Hill, 820 Mercer Street, Cherry Hill, New Jersey 08002.
Borough of Clementon
Maps are available for inspection at the Borough of Clementon, 101 Gibbsboro Road, Clementon, New Jersey.
Send comments to The Honorable Mark E. Armbruster, Mayor of the Borough of Clementon, 101 Gibbsboro Road, Clementon, New Jersey.
Borough of Collingswood
Maps are available for inspection at the Borough of Collingswood, 678 Haddon Avenue, Collingswood, New Jersey.
Send comments to The Honorable Jim Maley, Mayor of the Borough of Collingswood, 678 Haddon Avenue, Collingswood, New Jersey 08108.
Borough of Gibbsboro
Maps are available for inspection at the Gibbsboro Borough Hall, 49 Kirkwood Drive, Gibbsboro, New Jersey.
Send comments to The Honorable Edward G. Campbell, III, Mayor of the Borough of Gibbsboro, 49 Kirkwood Drive, Gibbsboro, New Jersey 08026.
City of Gloucester
Maps are available for inspection at the City of Gloucester Municipal Building, 313 Monmouth Street, Gloucester, New Jersey.
Send comments to The Honorable Thomas J. Kilcourse, Mayor of the City of Gloucester, 313 Monmouth Street, Gloucester, New Jersey 08030.
Township of Gloucester
Maps are available for inspection at the Township of Gloucester Municipal Building, 1261 Chews Landing Road, Blackwood, New Jersey.
Send comments to The Honorable Cindy Rau-Hatton, Mayor of the Township of Gloucester, P.O. Box 8, CS #5, Blackwood, New Jersey 08012-0008.
Township of Haddon
Maps are available for inspection at the Township of Haddon Municipal Building, 135 Haddon Avenue, Westmont, New Jersey.
Send comments to The Honorable William J. Park, Jr., Mayor of the Township of Haddon, 135 Haddon Avenue, Westmont, New Jersey 08108.
Borough of Haddonfield
Maps are available for inspection at the Borough of Haddonfield, 242 Kings Highway East, Haddonfield, New Jersey.
Send comments to The Honorable Leticia Colombi, Mayor of the Borough of Haddonfield, P.O. Box 3005, Haddonfield, New Jersey 08033.
Borough of Hi-Nella
Maps are available for inspection at the Hi-Nella Borough Hall, 100 Wykagl Road, Hi-Nella, New Jersey.
Send comments to The Honorable Ellen Wolica, Mayor of the Borough of Hi-Nella, 100 Wykagl Road, Hi-Nella, New Jersey 08038.
Borough of Lawnside
Maps are available for inspection at the Borough of Lawnside Zoning Department, 4 North Douglas Avenue, Lawnside, New Jersey.
Send comments to The Honorable Mark Bryant, Mayor of the Borough of Lawnside, 4 North Douglas Avenue, Lawnside, New Jersey 08045.
Borough of Lindenwold
Maps are available for inspection at the Borough of Lindenwold Construction Office, 2001 Egg Harbor Road, Lindenwold, New Jersey.
Send comments to The Honorable Frank DeLucca, Jr., Mayor of the Borough of Lindenwold, 2001 Egg Harbor Road, Lindenwold, New Jersey 08021.
Borough of Mount Ephraim
Maps are available for inspection at the Borough of Mt. Ephraim Tax Office, 121 South Black Horse Pike, Mount Ephraim, New Jersey.
Send comments to The Honorable Michael Reader, Mayor of the Borough of Mount Ephraim, 121 South Black Horse Pike, Mount Ephraim, New Jersey 08059.
Borough of Oaklyn
Maps are available for inspection at the Borough of Oaklyn, 500 White Horse Pike, Oaklyn, New Jersey 08107.
Send comments to The Honorable Michael LaMaina, Mayor of the Borough of Oaklyn, 500 White Horse Pike, Oaklyn, New Jersey.
Township of Pennsauken
Maps are available for inspection at the Pennsauken Municipal Building, Administration Office, 5605 North Crescent Boulevard, Pennsauken, New Jersey.
Send comments to The Honorable Greg Schofield, Mayor of the Township of Pennsauken, 5605 North Crescent Boulevard, Pennsauken, New Jersey 08110.
Borough of Somerdale
Maps are available for inspection at the Somerdale Borough Hall, 105 Kennedy Boulevard, Somerdale, New Jersey.
Send comments to The Honorable Gary Passanante, Mayor of the Borough of Somerdale, 105 Kennedy Boulevard, Somerdale, New Jersey 08083.
Borough of Stratford
Maps are available for inspection at the Borough of Stratford, 307 Union Avenue, Stratford, New Jersey.
Send comments to The Honorable Thomas Angelucci, Mayor of the Borough of Stratford, 307 Union Avenue, Stratford, New Jersey 08084.
Borough of Tavistock
Maps are available for inspection at the Borough of Tavistock, Remington and Vernick Engineering, 232 Kings Highway, Haddonfield, New Jersey.
Send comments to The Honorable George J. Buff, III, Mayor of the Borough of Tavistock, P.O. Box 8988, Turnersville, New Jersey 08012.
Township of Voorhees
Maps are available for inspection at the Township of Voorhees, Municipal Clerk's Office, 620 Berlin Road, Voorhees, New Jersey.
Send comments to The Honorable Michael R. Mignogna, Mayor of the Township of Voorhees, 620 Berlin Road, Voorhees, New Jersey 08043.
Passaic County, New Jersey (All Jurisdictions)
Molly Ann Brook | From the downstream side of Sherwood Avenue | +125 | +124 | Borough of Haledon, Borough of Prospect Park, City of Paterson.
| Approximately 825 feet upstream of the weir | +184 | +185
* National Geodetic Vertical Datum.
# Depth in feet above ground.
+ North American Vertical Datum.
ADDRESSES
Borough of Haledon
Maps are available for inspection at the Haledon Borough Hall, 510 Belmont Avenue, Haledon, New Jersey.
Send comments to The Honorable Ken Pengitore, Mayor of the Borough of Haledon, 510 Belmont Avenue, Haledon, New Jersey 07508.
Borough of Prospect Park
Maps are available for inspection at the Prospect Park Borough Hall, 106 Brown Avenue, Prospect Park, New Jersey.
Send comments to The Honorable Mohamed T. Kahairullah, Mayor of the Borough of Prospect Park, 106 Brown Avenue, Prospect Park, New Jersey 07508.
City of Paterson
Maps are available for inspection at the Paterson City Hall, 155 Market Street, Passaic, New Jersey.
Send comments to The Honorable Jose Torres, Mayor of the City of Paterson, 155 Market Street, Passaic, New Jersey 07505.
Somerset County, New Jersey (All Jurisdictions)
Chambers Brook #1 | At confluence with North Branch Raritan River | +79 | +80 | Township of Bedminster.
| Approximately 0.5 mile above the confluence with North Branch Raritan River | +79 | +80
#2 | At confluence with North Branch Raritan River | +70 | +74 | Township of Branchburg.
| Approximately 0.4 mile above the confluence with North Branch Raritan River | +73 | +74
Cory's Brook | At the confluence with Passaic River | +214 | +213 | Township of Warren.
| Approximately 1,800 feet upstream of Powder Horn Road | None | +405
Cuckels Brook | At confluence with Raritan River | +37 | +39 | Township of Bridgewater.
| Approximately 0.92 mile upstream of confluence with Raritan River | +41 | +42
Green Brook | At confluence with Raritan River | +32 | +33 | Borough of Bound Brook.
| Approximately 200 feet downstream Conrail | +32 | +33
Harrison Brook Branch 1 | At confluence with Harrison Brook | +222 | +220 | Township of Bernards.
| At Lurlin Drive | +230 | +231
Indian Grave Brook | At confluence with Passaic River | +297 | +304 | Township of Bernards, Borough of Bernardsville.
| Approximately 100 feet downstream of County boundary | +611 | +610
Millstone River | At confluence with Raritan River | +39 | +41 | Township of Franklin, Borough of Manville.
| At confluence of Royce Brook | +40 | +41
Moggy Brook | At confluence with North Branch | None | +125 | Borough of Far Hills.
| Approximately 0.55 mile upstream of the confluence with North Branch Raritan River | +154 | +156
Neshanic River | At the confluence with South Branch Raritan River | +81 | +82 | Township of Hillsborough.
| Approximately 1.73 miles upstream of Montgomery Road | +103 | +102
North Branch Raritan River Tributary C | At confluence with North Branch Raritan River | +196 | +197 | Borough of Bernardsville.
| Approximately 400 feet upstream of confluence with North Branch Raritan River | +209 | +210
Peters Brook | At confluence with Raritan River | +46 | +48 | Township of Bridgewater.
| Approximately 900 feet downstream of North Bridge Street | +48 | +49
Ross Brook | At confluence with Peter's Brook | +46 | +48 | Township of Bridgewater, Borough of Somerville.
| Approximately 45 feet downstream of Spring Street | +47 | +48
Royce Brook | At confluence with Millstone River | +40 | +41 | Borough of Manville.
| Approximately 0.4 mile upstream of confluence with Millstone River | +40 | +41
Tributary K | At confluence with Indian Grave Brook | +449 | +455 | Borough of Bernardsville.
| Approximately 1,670 feet upstream of Washington Corner Road | +562 | +564
* National Geodetic Vertical Datum.
# Depth in feet above ground.
+ North American Vertical Datum.
ADDRESSES
Township of Bedminster
Maps are available for inspection at the Bedminster Township Hall, One Miller Lane, Bedminster, New Jersey.
Send comments to The Honorable Robert Holtaway, Mayor of the Township of Bedminster, One Miller Lane, Bedminster, New Jersey 07921.
Township of Bernards
Maps available for inspection at the Township of Bernards Engineering Services Building, 277 South Maple Avenue, Basking Ridge, New Jersey.
Send comments to The Honorable John Malay, Mayor of the Township of Bernards, 1 Collyer Lane, Basking Ridge, New Jersey 07920.
Borough of Bernardsville
Maps available for inspection at the Bernardsville Municipal Building, 166 Mine Brook Road, Bernardsville, New Jersey.
Send comments to The Honorable Jay Parsons, Mayor of the Borough of Bernardsville, 166 Mine Brook Road, Bernardsville, New Jersey 07924.
Borough of Bound Brook
Maps available for inspection at the Bound Brook Borough Office, 230 Hamilton Street, Bound Brook, New Jersey.
Send comments to Mr. John J. Kennedy, Bound Brook Borough Administrator, 230 Hamilton Street, Bound Brook, New Jersey 08805.
Township of Branchburg
Maps available for inspection at the Branchburg Township Engineering Department, 1077 Route 202 North, Branchburg, New Jersey.
Send comments to The Honorable Kate Sarles, Mayor of the Township of Branchburg, 1077 Route 202 North, Branchburg, New Jersey 08876.
Township of Bridgewater
Maps available for inspection at the Bridgewater Township Code Enforcement Office, 700 Garretson Road, Bridgewater, New Jersey.
Send comments to The Honorable Patricia Flannery, Mayor of the Township of Bridgewater, 700 Garretson Road, Bridgewater, New Jersey 08807.
Borough of Far Hills
Maps available for inspection at the Far Hills Borough Municipal Building, 6 Prospect Street, Far Hills, New Jersey.
Send comments to The Honorable Carl J. Torsilieri, Mayor of the Borough of Far Hills, 6 Prospect Street, Far Hills, New Jersey 07931.
Township of Franklin
Maps available for inspection at the Franklin Township Engineering Department, 475 De Mott Lane, Somerset, New Jersey.
Send comments to Mr. Kenneth W. Daly, Franklin Township Manager, 475 De Mott Lane, Somerset, New Jersey 08873.
Township of Hillsborough
Maps available for inspection at the Hillsborough Township Municipal Complex, 379 South Branch Road, Hillsborough, New Jersey.
Send comments to The Honorable Carl Suraci, Mayor of the Township of Hillsborough, Hillsborough Township Municipal Complex, 379 South Branch Road, Hillsborough, New Jersey 08844.
Borough of Manville
Maps available for inspection at the Manville Borough Municipal Building, 325 North Main Street, Manville, New Jersey.
Send comments to The Honorable Angelo Corradino, Mayor of the Borough of Manville, 325 North Main Street, Manville, New Jersey 08835.
Borough of Somerville
Maps available for inspection at the Somerville Borough Hall, 25 West End Avenue, Somerville, New Jersey.
Send comments to The Honorable Brian G. Gallagher, 25 West End Avenue, Somerville, New Jersey 08876.
Township of Warren
Maps available for inspection at the Warren Township Engineering Department, 46 Mountain Boulevard, Warren, New Jersey.
Send comments to The Honorable Carolyn Garafola, Mayor of the Township of Warren, 46 Mountain Boulevard, Warren, New Jersey 07059.
Clinton County, New York (All Jurisdictions)
AuSable River | Approximately 2.2 miles upstream of Lower Road Bridge | None | +491 | Town of Ausable, Town of Black Brook.
| At the confluence with West Branch AuSable River | +549 | +550
Fern Lake | The entire shoreline | None | +1,225 | Town of Black Brook.
Salmon River | Approximately 2,750 feet upstream of Fox Farm Road | None | +306 | Town of Peru.
| Approximately 1.2 miles upstream of Conners Road | None | +585
Saranac River | Approximately 5,100 feet upstream of Ore Bed Road | None | +1,090 | Town of Black Brook.
| Approximately 170 feet upstream of Union Falls Road | None | +1,414
West Branch | At the confluence with AuSable River | +551 | +550 | Town of Black Brook.
AuSable River | Approximately 170 feet upstream of the confluence with AuSable River | +552 | +551
* National Geodetic Vertical Datum.
# Depth in feet above ground.
+ North American Vertical Datum.
ADDRESSES
Town of Ausable
Maps are available for inspection at the Ausable Town Office, 111 Ausable Street, Keeseville, New York.
Send comments to Ms. Sandra Senecal, Ausable Town Supervisor, 111 Ausable Street, Keeseville, New York 12944.
Town of Black Brook
Maps are available for inspection at the Black Brook Town Office, 18 North Main Street, Ausable Forks, New York.
Send comments to Mr. Ricky Nolan, Black Brook Town Supervisor, P.O. Box 715, Ausable Forks, New York 12912.
Town of Peru
Maps are available for inspection at the Peru Town Office, 3036 Main Street, Peru, New York.
Send comments to Mr. Donald E. Covel, Peru Town Supervisor, P.O. Box 596, Peru, New York 12792-0596.
Gaston County, North Carolina and Incorporated Areas
Blackwood Creek | At the confluence with Crowders Creek | +669 | +662 | Gaston County (Unincorporated Areas), City of Gastonia.
| Approximately 0.9 mile upstream of the confluence with Crowders Creek | +674 | +673
Muddy Fork | Approximately 700 feet downstream of the Cleveland/Gaston County boundary | None | +823 | City of Cherryville, Gaston County (Unincorporated Areas).
| Approximately 0.6 mile upstream of the Cleveland/Gaston County boundary | None | +851
Tributary B | At the confluence with Tributary A | None | +719 | Gaston County (Unincorporated Areas), City of Gastonia.
| Approximately 230 feet upstream of the confluence with Tributary B-1 | None | +784
* National Geodetic Vertical Datum.
# Depth in feet above ground.
+ North American Vertical Datum.
ADDRESSES
Gaston County (Unincorporated Areas)
Maps are available for inspection at Gaston County Administration Office, 128 West Main Street, Gastonia, North Carolina.
Send comments to Mr. Jan Winters, Gaston County Manager, 128 West Main Street, Gastonia, North Carolina 28053.
City of Cherryville
Maps are available for inspection at Cherryville City Hall, 116 South Mountain Street, Cherryville, North Carolina.
Send comments to The Honorable Bob Austell, Mayor of the City of Cherryville, 116 South Mountain Street, Cherryville, North Carolina 28021.
City of Gastonia
Maps are available for inspection at the City of Gastonia Engineering Department, 150 South York Street, Gastonia, North Carolina.
Send comments to The Honorable Jennifer Stulz, Mayor of the City of Gastonia, P.O. Box 1748, Gastonia, North Carolina 28053.
Windham County, Vermont (All Jurisdictions)
Broad Brook | At upstream side of State Route 142 | None | +229 | Town of Vernon.
Connecticut River | Approximately 0.81 mile upstream of Vernon Dam | +226 | +227 | Village of Bellows Falls, Town of Brattleboro, Town of Dummerston, Town of Putney, Town of Rockingham, Town of Vernon, Town of Westminster.
| Approximately 7.42 miles upstream of Bellows Falls Dam | +306 | +305
Saxtons River | At the confluence with the Connecticut River | None | +257 | Town of Athens, Village of Bellows Falls, Town of Grafton, Town of Westminster.
| Approximately 1,950 feet upstream of the confluence of Weaver Brook | None | +590
West River | At the confluence with the Connecticut River | +235 | +232 | Town of Brattleboro, Town of Brookline, Town of Dummerston, Town of Jamaica.
| Upstream side of Ball Mountain Dam | None | +1,020
* National Geodetic Vertical Datum.
# Depth in feet above ground.
+ North American Vertical Datum.
ADDRESSES
Village of Bellows Falls
Maps are available for inspection at the Bellows Falls Village Hall, 7 Square, 3rd Floor, Bellows Falls, Vermont.
Send comments to Mr. John B. Schempf, Village of Bellows Falls Municipal Manager, P.O. Box 370, Bellows Falls, Vermont 05101.
Town of Brattleboro
Maps are available for inspection at the Brattleboro Planning Services Department, 230 Main Street, Suite 202, Brattleboro, Vermont.
Send comments to Mr. Stephen A. Steidle, Chairman of the Town of Brattleboro Board of Selectmen, 230 Main Street, Suite 208, Brattleboro, Vermont 05301.
Town of Brookline
Maps are available for inspection at the Brookline Town Office, 736 Grassy Brook Road, Brookline, Vermont.
Send comments to Ms. Joyce Meehl, Chairperson for the Town of Brookline Board of Selectmen, P.O. Box 403, Newfane, Vermont 05345.
Town of Dummerston
Maps are available for inspection at the Dummerston Town Hall, 1523 Middle Road, East Dummerston, Vermont.
Send comments to Ms. Cynthia Jerome, Chairperson for the Town of Dummerston Board of Selectmen, 1523 Middle Road, East Dummerston, Vermont 05346.
Town of Putney
Maps are available for inspection at the Putney Town Hall, 127 Main Street, Putney, Vermont.
Send comments to Mr. Christopher Ryan, Putney Town Manager and Zoning Administrator, P.O. Box 233, Putney, Vermont 05346.
Town of Vernon
Maps are available for inspection at the Vernon Town Office, 567 Governor Hunt Road, Vernon, Vermont.
Send comments to Mr. Peter Deyo, Chairman of the Town of Vernon Board of Selectmen, 567 Governor Hunt Road, Vernon, Vermont 05354.
Town of Westminster
Maps are available for inspection at the Westminster Town Hall, 3651 U.S. Route 5, Westminster, Vermont.
Send comments to Mr. Paul Harlow, Chairman of the Town of Westminster Board of Selectmen, P.O. Box 147, Westminster, Vermont 05158.
Towns of Weathersfield and Windsor, Windsor County, Vermont
Connecticut River | Approximately 1.91 miles downstream of confluence of the Black River | +306 | +305 | Town of Harland, Town of Springfield, Town of Weathersfield, Town of Windsor.
| Approximately 2.27 miles upstream of confluence of Lulls Brook | +334 | +335
* National Geodetic Vertical Datum.
# Depth in feet above ground.
+ North American Vertical Datum.
ADDRESSES
Town of Weathersfield
Maps are available for inspection at the Town of Weathersfield, Martin Memorial Hall, 5259 Route 5, Ascutney, Vermont.
Send comments to Mr. Lawrence Melen, Weathersfield Town Manager, P.O. Box 550, Ascutney, Vermont 05030-0550.
Town of Windsor
Maps available for inspection at the Windsor Town Office, 29 Union Street, Windsor, Vermont.
Send comments to Mr. Donald Howard, Windsor Town Administrator, 29 Union Street, Windsor, Vermont 05089.

(Catalog of Federal Domestic Assistance No. 83.100, “Flood Insurance.”)

Dated: January 12, 2007.
David I. Maurstad,
Director, Mitigation Division, Federal Emergency Management Agency, Department of Homeland Security.

[FR Doc. E7-887 Filed 1-22-07; 8:45 am]

BILLING CODE 9110-12-P